RAILROAD RETIREMENT BOARD

Proposed Collection; Comment Request

Summary: In accordance with the requirement of Section 3506 (c)(2)(A) of the Paperwork Reduction Act of 1995 which provides opportunity for public comment on new or revised data collections, the Railroad Retirement Board (RRB) will publish periodic summaries of proposed data collections.

Comments are invited on: (a) Whether the proposed information collection is necessary for the proper performance of the functions of the agency, including whether the information has practical utility; (b) the accuracy of the RRB's estimate of the burden of the collection of the information; (c) ways to enhance the quality, utility, and clarity of the information to be collected; and (d) ways to minimize the burden related to the collection of information on respondents, including the use of automated collection techniques or other forms of information technology.

1. Title and purpose of information collection: Application for Survivor Insurance Annuities; OMB 3220-0030.

Under Section 2(d) of the Railroad Retirement Act (RRA), monthly survivor annuities are payable to surviving widow(er)s, parents, unmarried children, and in certain cases, divorced spouses, mothers (fathers), remarried widow(er)s, and grandchildren of deceased railroad employees if there are no qualified survivors of the employee immediately eligible for an annuity. The requirements relating to the annuities are prescribed in 20 CFR 216, 217, 218, and 219.

To collect the information needed to help determine an applicant's entitlement to, and the amount of, a survivor annuity the RRB uses Forms AA-17, Application for Widow(er)'s Annuity; AA-17b, Applications for Determination of Widow(er)'s Disability; AA-18, Application for Mother's/Father's and Child's Annuity; AA-19, Application for Child's Annuity; AA-19a, Application for Determination of Child's Disability; AA-20, Application for Parent's Annuity, and electronic Forms AA-17cert, Application Summary and Certification and AA-17sum, Application Summary.

The on-line automated survivor annuity application (Forms AA-17, AA-18, AA-19, and AA-20) process obtains information about an applicant's marital history, work history, benefits from other government agencies, and Medicare entitlement for a survivor annuity. An RRB representative interviews the applicant either at a field office (preferred), an itinerant point, or by telephone. During the interview, the RRB representative enters the information obtained into an on-line information system. Upon completion of the interview, the system generates, for the applicant's review, either Form AA-17cert or AA-17sum, which provides a summary of the information that the applicant provided or verified. Form AA-17cert, Application Summary and Certification, requires a tradition pen and ink “wet” signature. Form AA-17sum, Application Summary, documents the alternate signing method called “Attestation,” which is an action taken by the RRB representative to confirm and annotate in the RRB records (1) the applicant's intent to file an application; (2) the applicant's affirmation under penalty of perjury that the information provided is correct; and (3) the applicant's agreement to sign the application by proxy. When the RRB representative is unable to contact the applicant in person or by telephone, for example, the applicant lives in another country, a manual version of the appropriate form is used. One response is requested of each respondent. Completion of the forms is required to obtain a benefit.

The RRB proposes to remove the paper version of Forms AA-17, AA-18, AA-19, and AA-20 from the information collection due to receiving less than 10 responses a year. No changes are proposed to electronic Forms AA-17cert, AA-17sum, or manual Forms AA-17b and AA-19a.

Estimate of Annual Respondent Burden
Form number | Annual responses | Time (minutes) | Burden (hours)
AA-17 Application Process
AA-17cert | 900 | 20 | 300
AA-17sum | 2,100 | 19 | 665
AA-17b
(With assistance) | 250 | 40 | 167
(Without assistance) | 20 | 50 | 17
AA-19a
(With assistance) | 200 | 45 | 150
(Without assistance) | 15 | 65 | 16
Total | 3,485 |  | 1,315

2. Title and purpose of information collection: Application for Spouse Annuity under the Railroad Retirement Act; OMB 3220-0042.

Section 2(c) of the Railroad Retirement Act (RRA), provides for the payment of annuities to spouses of railroad retirement annuitants who meet the requirements under the RRA. The age requirements for a spouse annuity depend on the employee's age, date of retirement, and years of railroad service. The requirements relating to the annuities are prescribed in 20 CFR 216, 218, 219, 232, 234, and 295.

To collect the information needed to help determine an applicant's entitlement to, and the amount of, a spouse annuity the RRB uses Form AA-3, Application for Spouse/Divorced Spouse Annuity, and electronic Forms AA-3cert, Application Summary and Certification, and AA-3sum, Application Summary.

The AA-3 application process gathers information from an applicant about their marital history, work history, benefits from other government agencies, and Medicare entitlement for a spouse annuity. An RRB representative interviews the applicant either at a field office (preferred), an itinerant point, or by telephone. During the interview, the RRB representative enters the information obtained into an on-line information system. Upon completion of the interview, the system generates, for the applicant's review, either Form AA-3cert or AA-3sum, which is a summary of the information that the applicant provided or verified. Form AA-3cert, Application Summary and Certification, requires a traditional pen and ink “wet” signature. Form AA-3sum, Application Summary, documents an alternate signing method called “Attestation,” which is an action taken by the RRB representative to confirm and annotate in the RRB records (1) the applicant's intent to file an application; (2) the applicant's affirmation under penalty of perjury that the information provided is correct; and (3) the applicant's agreement to sign the application by proxy. When the RRB representative is unable to contact the applicant in person or by telephone, for example, the applicant lives in another country, a manual version of Form AA-3 is used. One response is requested of each respondent. Completion of the form is required to obtain a benefit.

The RRB proposes to remove the paper version of the AA-3 from the information collection due to receiving less than 10 responses a year.

Estimate of Annual Respondent Burden
Form number | Annual responses | Time (minutes) | Burden (hours)
Form AA-3 Online Process
Form AA-3cert (Ink Signature) | 4,700 | 30 | 2,350
Form AA-3sum (Attestation) | 7,000 | 29 | 3,383
Total | 11,700 |  | 5,733

Additional Information or Comments: To request more information or to obtain a copy of the information collection justification, forms, and/or supporting material, contact Dana Hickman at (312) 751-4981 or Dana.Hickman@RRB.GOV. Comments regarding the information collection should be addressed to Charles Mierzwa, Railroad Retirement Board, 844 North Rush Street, Chicago, Illinois 60611-2092 or emailed to Charles.Mierzwa@RRB.GOV. Written comments should be received within 60 days of this notice.

Charles Mierzwa,
Chief of Information Resources Management.

[FR Doc. 2015-30443 Filed 11-30-15; 8:45 am]

BILLING CODE 7905-01-P